DEPARTMENT OF THE INTERIOR

Geological Survey

Annual National Earthquake Hazards Reduction Program Announcement; Agency Information Collection Activities: Submitted for Office of Management and Budget (OMB) Review; Comment Request

AGENCY: United States Geological Survey.

ACTION: Notice of an extension of an Information Collection (1028-0051).

SUMMARY: To comply with the Paperwork Reduction Act of 1995 (PRA), we are notifying the public that we have submitted to OMB an information collection request (ICR) to renew approval of the paperwork requirements for respondents to submit proposals to support research in earthquake hazard assessments and earthquake occurrence under the Earthquake Hazards Reduction Act of 1977, as amended, Pub. L. 95-124, 42 U.S.C. 7701 et seq., that established the National Earthquake Hazards Reduction Program. This notice also provides the public a second opportunity to comment on the paperwork burden of this requirement.

DATES: Submit written comments by February 28, 2007.

ADDRESSES: You may submit comments on this information collection directly to the Office of Management and Budget (OMB), Office of Information and Regulatory Affairs, OMB, Attention: Desk Officer for the Department of the Interior via OMB e-mail: (OIRA_DOCKET@omb.eop.gov); or by fax (202) 395-6566; identify with (1028-0051). Submit a copy of your comments to the United States Geological Survey, via:

• E-mail USGS at gd-erp-coordinator@usgs.gov. Use Information Collection Number 1028-0051, in the subject line.

• Fax: 703-648-6717. Identify with Information Collection Number 1028-0051

• Mail or hand-carry comments to the United States Geological Survey; Earthquake Hazards Program; MS905 National Center; Reston, Virginia 20192. Please reference “Information Collection 1028-0051” in your comments.

FOR FURTHER INFORMATION CONTACT: Elizabeth Lemersal, National Earthquake Hazards Program (703) 648-6716. You may also contact Ms. Lemersal to obtain a copy, at no cost, of the ICR, the announcement for grant applications, and the public law that established the National Earthquake Hazards Reduction Program.

SUPPLEMENTARY INFORMATION: On November 1, 2006, a Federal Register notice was published (Volume 71, Number 211, pages 64290-64291) providing the public 60 days to comment on this information collection. No responses were received.

The public now has a second chance to comment on this information collection. Specific public comments are requested as to:

1. Whether the collection of information is necessary for the proper performance of the functions of the bureau, including whether the information will have practical utility;

2. The accuracy of the bureau's estimate of the burden of the collection of information, including the validity of the methodology and assumptions used;

3. The quality, utility, and clarity of the information to be collected; and

4. How to minimize the burden of the collection of information on those who are to respond, including the use of appropriate automated, electronic, mechanical, or other forms of information technology.

Title: Annual National Earthquake Hazards Reduction Program Announcement.

OMB Control Number: 1028-0051.

Abstract: Respondents submit proposals to support research in earthquake hazard assessments and earthquake occurrence. This information will be used as the basis for selection and award of projects meeting the program objectives. Final reports of research findings are required for each funded proposal.

Bureau form number: None.

Frequency: Annual proposals, final reports.

Description of respondents and grant recipients: Educational institutions and profit and non-profit organizations.

Annual applicants: 250.

Annual grants awarded: 120

Annual Burden hours for applicants and final reports for grantees: 12,300 hours.

Bureau clearance officer: Fred Travnicek, 703-648-7231.

FOR FURTHER INFORMATION CONTACT: Elizabeth Lemersal, U.S. Geological Survey, MS905 National Center, Reston, Virginia 20192 (703) 648-6716.

Dated: January 23, 2007.
P. Patrick Leahy,
Associate Director for Geology, U.S. Geological Survey.

[FR Doc. 07-355 Filed 1-26-06; 8:45 am]

BILLING CODE 4310-47-M